DEPARTMENT OF HOUSING AND URBAN DEVELOPMENT

[Docket No. FR-5067-N-04]

Extension of HUD's Implementation Guidance for Section 901 of the Emergency Supplemental Appropriations To Address Hurricanes in the Gulf of Mexico, and Pandemic Influenza Act, 2006, as Revised by Section 11003 of the Consolidated Security, Disaster Assistance, and Continuing Appropriations Act, 2009 To Include Calendar Years 2008 and 2009 Program Funds

AGENCY: Office of the Assistant Secretary for Public and Indian Housing, HUD.

ACTION: Notice.

SUMMARY: This notice supplements three earlier notices published in the Federal Register that provided guidance to public housing agencies (PHAs) on implementing the authority provided to HUD by section 901 of the “Emergency Supplemental Appropriations to Address Hurricanes in the Gulf of Mexico and Pandemic Influenza Act, 2006” (Pub. L. 109-148, approved December 30, 2005). This authority allows PHAs in the most heavily impacted areas of Louisiana and Mississippi affected by Hurricanes Katrina and Rita to combine Housing Choice Voucher and public housing operating and capital funds to flexibly and efficiently facilitate disaster recovery in those areas. Such authority was provided for calendar years (CYs) 2006 and 2007. This notice advises of the extension of such authority through CYs 2008 and 2009 by section 11003 of the Consolidated Security, Disaster Assistance, and Continuing Appropriations Act, 2009 (Pub. L. 110-329, approved September 30, 2008). Eligible PHAs with a continued need for assisting families who were receiving housing assistance under the Act immediately prior to Hurricane Katrina or Rita and were displaced from their housing by the hurricanes and are interested in using authority provided under the extended section 901 authority must submit a 2008 Notice of Intent and Fungibility Plan in accordance with the July 28, 2006, October 30, 2006, and August 6, 2007 Federal Register notices. Further information on HUD processing of CYs 2008 and 2009 section 901 fungibility will be posted to the Office of Public and Indian Housing Web site at: http://www.hud.gov/offices/pih/.

DATES: Eligible PHAs must submit their CY 2008 Notices of Intent and Fungibility Plans no later than January 31, 2009.

FOR FURTHER INFORMATION CONTACT: For technical assistance and other questions concerning the Notice of Intent and section 901 Fungibility Plan, PHAs should contact their local HUD Public Housing Hub in New Orleans, Louisiana, or Jackson, Mississippi; or Bessy Kong, Deputy Assistant Secretary for Policy, Program, and Legislative Initiatives, Office of Public and Indian Housing, Department of Housing and Urban Development, 451 7th Street, SW., Room 4116, Washington, DC 20410-5000, telephone 202-708-0614 or 202-708-0713, extension 2548 (this is not a toll-free number). Persons with hearing or speech impairments may access this number through TTY by calling the toll-free Federal Information Relay Service at (800) 877-8339.

SUPPLEMENTARY INFORMATION: On July 28, 2006, at 71 FR 42996, HUD published a notice (FR-5067-N-01) entitled, “Implementation Guidance for section 901 of the Emergency Supplemental Appropriations to Address Hurricanes in the Gulf of Mexico, and Pandemic Influenza Act, 2006.” Section 901 of the Emergency Supplemental Appropriations to Address Hurricanes in the Gulf of Mexico, and Pandemic Influenza Act, 2006 (Pub. L. 109-148, approved December 30, 2005) authorizes HUD to allow PHAs to combine assistance provided under sections 9(d) and 9(e) of the United States Housing Act of 1937 (Act) and assistance provided under section 8(o) of the Act, for the purpose of facilitating the prompt, flexible and efficient use of funds provided under these sections of the Act to assist families who were receiving housing assistance under the Act immediately prior to Hurricane Katrina or Rita and were displaced from their housing by the hurricanes. Section V.A. of the July 28, 2006, notice, entitled, “General Procedures for Combining Public Housing and Voucher Funds under section 901,” provided instructions for PHAs interested in implementing the flexibility in funding authorized in section 901.

On October 30, 2006, at 71 FR 63340, HUD published a notice (FR-5067-N-02) that extended the period for PHAs located within the most heavily impacted areas of Louisiana and Mississippi that are subject to a declaration by the President of a major disaster under the Robert T. Stafford Disaster Relief and Emergency Assistance Act in connection with Hurricanes Katrina or Rita to submit Notices of Intent and Fungibility Plans in accordance with the July 28, 2006, notice. In addition to extending the PHA submission deadline, the October 30, 2006, notice removed the restriction that the combined funding may not be spent for uses under the Housing Choice Voucher program.

On August 6, 2007, at 72 FR 45657, HUD published a notice (FR-5067-N-03) that extended section 901 fungibility through CY 2007 pursuant to section 4803 of the U.S. Troop Readiness, Veterans' Care, Katrina Recovery, and Iraq Accountability Appropriations Act (Pub. L. 110-28, approved May 25, 2007).

Today's Federal Register notice revises the earlier notices to incorporate the extension of section 901 fungibility from calendar year CY 2007 to calendar years 2006, 2007, 2008, and 2009, as authorized by section 11003 of the Consolidated Security, Disaster Assistance, and Continuing Appropriations Act, 2009 (Pub. L. 110-329, approved September 30, 2008).

As noted earlier in today's notice, eligible PHAs interested in combining CY 2008 funds must submit a 2008 Notice of Intent and Fungibility Plan in accordance with the July 28, 2006, notice, and subsequent Federal Register notices. Further information on HUD processing of CY 2008 and CY 2009 Section 901 flexibility may be found on the Office of Public and Indian Housing Web site at http://www.hud.gov/offices/pih.

Notices and Plans should be submitted to the following addresses and contacts, as listed in the July 28, 2006, notice: PHAs should submit one copy to the Public Housing Director of the HUD office in New Orleans, Louisiana or Jackson, Mississippi, as applicable, and the original to HUD Headquarters, Office of Public and Indian Housing, Office of Policy, Program, and Legislative Initiatives, 451 7th Street, SW., Room 4116, Washington, DC 20410-5000, Attention: Bessy Kong/Sherry McCown.

Dated: December 9, 2008.
Paula O. Blunt,
General Deputy Assistant Secretary for Public and Indian Housing.

[FR Doc. E8-29949 Filed 12-16-08; 8:45 am]

BILLING CODE 4210-67-P